DEPARTMENT OF COMMERCE

Foreign-Trade Zones Board

[B-13-2018]

Foreign-Trade Zone (FTZ) 138—Franklin County, Ohio; Authorization of Production Activity; International Converter (Insulation Facer); Caldwell, Ohio

On February 23, 2018, International Converter submitted a notification of proposed production activity to the FTZ Board for its facility within Subzone 138H, in Caldwell, Ohio.

The notification was processed in accordance with the regulations of the FTZ Board (15 CFR part 400), including notice in the Federal Register inviting public comment (83 FR 8966-8967, March 2, 2018). On June 25, 2018, the applicant was notified of the FTZ Board's decision that no further review of the activity is warranted at this time. The production activity described in the notification was authorized, subject to the FTZ Act and the FTZ Board's regulations, including Section 400.14.

Dated: June 25, 2018.
Andrew McGilvray,
Executive Secretary.

[FR Doc. 2018-13915 Filed 6-27-18; 8:45 am]

BILLING CODE 3510-DS-P